DEPARTMENT OF THE INTERIOR

Bureau of Land Management

[WY-100-05-1310-DB]

Notice of Meeting of the Pinedale Anticline Working Group's Water Resources Task Group

AGENCY: Bureau of Land Management, Interior.

ACTION: Notice of public meeting.

SUMMARY: In accordance with the Federal Land Policy and Management Act (1976) and the Federal Advisory Committee Act (1972), the U.S. Department of the Interior, Bureau of Land Management (BLM) Pinedale Anticline Working Group (PAWG) Water Resources Task Group (subcommittee) will meet in Pinedale, Wyoming, for a business meeting. Task Group meetings are open to the public.

DATES: PAWG Water Resources Task Group meetings are scheduled for April 6, 2005 and May 12, 2005. Each meeting will be held from 9 a.m. until 5 p.m.

ADDRESSES: Both meetings of the PAWG Water Resources Task Group will be held in the Lovatt Room of the Pinedale Library at 155 S. Tyler Ave., Pinedale, WY.

FOR FURTHER INFORMATION CONTACT: Catherine Woodfield, BLM/Water Resources TG Co-Liaison, Bureau of Land Management, Pinedale Field Office, 432 E. Mills St., P.O. Box 738, Pinedale, WY 82941; (307) 367-5360 or Dennis Doncaster, BLM/Water Resources TG Co-Liaison, Bureau of Land Management, Rock Springs Field Office, 280 Hwy 191 North, Rock Springs, Wyoming, 82901; (307) 352-0207.

SUPPLEMENTARY INFORMATION: The Pinedale Anticline Working Group (PAWG) was authorized and established with release of the Record of Decision (ROD) for the Pinedale Anticline Oil and Gas Exploration and Development Project on July 27, 2000. The PAWG advises the BLM on the development and implementation of monitoring plans and adaptive management decisions as development of the Pinedale Anticline Natural Gas Field proceeds for the life of the field.

The agenda for these meetings will include discussion and refinement of the water resources monitoring plan to assess impacts of development in the Pinedale Anticline gas field. Final Task Group recommendations are due to the PAWG in April, 2005. At a minimum, public comments will be heard just prior to adjournment of the meeting.

Dated: March 7, 2005.
Bill Wadsworth,
Acting Field Office Manager.

[FR Doc. 05-5104 Filed 3-14-05; 8:45 am]

BILLING CODE 4310-22-P